DEPARTMENT OF DEFENSE

Department of the Army

Availability for Non-Exclusive, Exclusive, or Partially Exclusive Licensing of U.S. Patent Concerning System and Method for Predicting Human Cognitive Performance Using Data From an Actigraph

AGENCY: U.S. Army Medical Research and Material Command, DOD.

ACTION: Notice.

SUMMARY: In accordance with 37 CFR 404.6, announcement is made of the availability for licensing of U.S. Patent No. 6,241,686 entitled “System and Method for Predicting Human Cognitive Performance Using Data From an Actigraph” and issued June 5, 2001. Foreign rights are also available (PCT/US99/20104). This patent has been assigned to the United States Government as represented by the Secretary of the Army.

ADDRESSES: Commander, U.S. Army Medical Research and Material Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: A system and a method for providing a determination of predicted cognitive performance of an individual based on the time of day and on factors including sleep history based on activity data from an actigraph. The system and the method provide a numerical representation of the predicted cognitive performance. Both may be used to optimize the work schedule of the actigraph wearer to maximize the cognitive capacity during working hours.

Elizabeth Arwine,
Patent Attorney.

[FR Doc. 01-18589 Filed 7-25-01; 8:45 am]

BILLING CODE 3710-08-M